FEDERAL COMMUNICATIONS COMMISSION

47 CFR Part 73

[DA 05-1023; MB Docket No. 04-316, RM-11047]

Radio Broadcasting Services; Morrison and Sparta, Tennessee

AGENCY: Federal Communications Commission.

ACTION: Final rule.

SUMMARY: The Audio Division, at the request of Clear Channel Broadcasting Licenses, Inc., licensee of Station WRKK-FM, Channel 288A, Sparta, Tennessee, deletes Channel 288A at Sparta, Tennessee, from the FM Table of Allotments, allots Channel 287A at Morrison, Tennessee, as the community's first local FM service, and modifies the license of Station WRKK-FM to specify operation on Channel 287A at Morrison. Channel 287A can be allotted to Morrison, Tennessee, in compliance with the Commission's minimum distance separation requirements with a site restriction of 3.4 km (2.1 miles) northeast of Morrison. The coordinates for Channel 287A at Morrison, Tennessee, are 35-37-27 North Latitude and 85-53-37 West Longitude.

DATES: Effective May 23, 2005.

FOR FURTHER INFORMATION CONTACT: Deborah Dupont, Media Bureau, (202) 418-2180.

SUPPLEMENTARY INFORMATION: This is a synopsis of the Commission's Report and Order, MB Docket No. 04-316, adopted April 6, 2005, and released April 8, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Tennessee, is amended by adding Morrison, Channel 287A and by removing Sparta, Channel 288A.

Federal Communications Commission.
John A. Karousos,
Assistant Chief, Audio Division, Media Bureau.

[FR Doc. 05-8211 Filed 4-26-05; 8:45 am]

BILLING CODE 6712-01-P